DEPARTMENT OF LABOR

Office of the Secretary

Agency Information Collection Activities; Submission for OMB Emergency Review: Comment Request; Unemployment Insurance Trust Fund Activity

ACTION: Notice.

SUMMARY: The Department of Labor (DOL) has submitted the Employment and Training Administration (ETA) sponsored information collection request (ICR) revision titled, “Unemployment Insurance Trust Fund Activity,” to the Office of Management and Budget (OMB) for review and clearance utilizing emergency processing procedures in accordance with the Paperwork Reduction Act of 1995 (Pub. L. 104-13, 44 U.S.C. Chapter 35) and regulations 5 CFR 1320.13.

DATES: OMB approval has been requested by March 2, 2012. Submit comments on or before February 29, 2012.

ADDRESSES: A copy of this ICR, with applicable supporting documentation; including a description of the likely respondents, proposed frequency of response, and estimated total burden may be obtained from the RegInfo.gov Web site, http://www.reginfo.gov/public/do/PRAMain or by contacting Michel Smyth by telephone at 202-693-4129 (this is not a toll-free number) or sending an email to DOL_PRA_PUBLIC@dol.gov.

Submit comments about this request to the Office of Information and Regulatory Affairs, Attn: OMB Desk Officer for the Department of Labor, Employment and Training Administration (ETA), Office of Management and Budget, Room 10235, Washington, DC 20503, Telephone: 202-395-6929/Fax: 202-395-6881 (these are not toll-free numbers), email: OIRA_submission@omb.eop.gov.

FOR FURTHER INFORMATION: Contact Michel Smyth by telephone at 202-693-4129 (this is not a toll-free number) or by email at DOL_PRA_PUBLIC@dol.gov.

SUPPLEMENTARY INFORMATION: The American Recovery and Reinvestment Act of 2009, Public Law 111-5, provided incentive funds for states to modernize their unemployment compensation laws. Additionally it provided for a special transfer of $500 million to the states' accounts in the Unemployment Trust Fund (UTF) to be used for certain administrative purposes (including implementing and administering the modernization provisions).

Based on the permitted uses of these funds, it is clear Congress, recognizing the increased workload on the unemployment compensation system resulting from the recent economic recession, intended these funds be used during the recession to expedite the delivery of services, reduce improper payments, and improve tax operations. These funds were transferred to states' accounts in the UTF on February 27, 2009. Based on a subsequent audit of these funds (Audit Report No. 18-10-012-03-315), the DOL Inspector General (OIG) determined:

At least $399 million of the states' funds remains unexpended, with a significant number of states planning multi-year systems improvements. Some states did not have plans in place for spending these funds.

The OIG report recommended the ETA obtain more information from states on their plans to expend their share of the administrative grant and provide technical assistance to states in developing spending plans. The OMB echoed this sentiment in Memorandum M-11-34: Accelerating Spending of Remaining Funds from the American Recovery and Reinvestment Act for Discretionary Grant Programs.

To ensure compliance with Congressional intent and OMB guidance, the ETA is asking states to review the amount of unexpended special administrative funds, develop spending plans outlining their anticipated use of these funds, and provide the spending plans to the ETA.

The ETA currently collects data on administrative activity involving Title IX funds from the state's Unemployment Trust Fund on Form ETA-8403. This report is one of many within a large container collection of financial reports approved under OMB Control Number 1205-0154. There is currently no capacity to gather narratives describing plans for future obligation and expenditures of remaining funds. The ETA believes the collection of this information is necessary to ensure that the Secretary can provide accurate updates to the OIG and OMB on the status of the expenditure of these funds. The ETA plans to request all states to provide an update on the status and future plans for the administrative funds including:

• Amount obligated but not expended to date, as well as the goods and services obtained from the funds expended.

• Amount of obligated by unexpended funds, as well as the goods and services expected to be obtained from the funds.

• If there are no plans to spend the unexpended funds, a plan to expend the funds along with a timeline for their liquidation and the goods and services expected to be obtained from the funds.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. The ETA seeks to clear this ICR using emergency processing procedures, because of the OIG recommendation and recent OMB guidance.

Interested parties are encouraged to send comments to the OMB, Office of Information and Regulatory Affairs at the address shown in the ADDRESSES section so they are received no later than February 29, 2012. In order to help ensure appropriate consideration, comments should reference OMB Control Number 1205-0154. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Title of Collection: Unemployment Insurance Trust Fund Activity.

OMB Control Number: 1205-0154.

Requested Duration of Authorization: Six (6) months.

Affected Public: State, Local, and Tribal Governments.

Total Estimated Number of Respondents: 53.

Frequency of Collection: Various.

Total Estimated Number of Responses: 3,710.

Estimated Time per Response: 0.5 hours.

Total Estimated Annual Burden Hours: 1,855.

Total Estimated Annual Other Costs Burden: $0.

Dated: February 10, 2012.
Michel Smyth,
Departmental Clearance Officer.

[FR Doc. 2012-3719 Filed 2-16-12; 8:45 am]

BILLING CODE 4510-23-P